DEPARTMENT OF COMMERCE

National Oceanic and Atmospheric Administration

50 CFR Part 648

[I.D. 081103D]

New England Fishery Management Council; Public Hearings

AGENCY: National Marine Fisheries Service (NMFS), National Oceanic and Atmospheric Administration (NOAA), Commerce.

ACTION: Public hearings; request for comments.

SUMMARY: The New England Fishery Management Council (Council) will hold a series of public hearings to solicit comments on proposals to be included in Amendment 13 of the Northeast Multispecies Fishery Management Plan (FMP).

DATES: Written comments on the proposals will be accepted through October 15, 2003. The public hearings will begin September 9, 2003 and end on September 30, 2003. See Public Hearings for specific hearing dates.

ADDRESSES: To obtain copies of the public hearing document or to submit comments, contact Paul J. Howard, Executive Director, New England Fishery Management Council, 50 Water Street, Mill 2, Newburyport, MA 01950. Identify correspondence as “Comments on Groundfish Amendment 13.” Hearings will be held in New Jersey, New York, Rhode Island, Massachusetts, New Hampshire and Maine. Requests for special accommodations should be addressed to the New England Fishery Management Council, 50 Water Street, Mill 2, Newburyport, MA 01950; telephone: (978) 465-0492. For specific locations, see PUBLIC HEARINGS.

FOR FURTHER INFORMATION CONTACT: Paul J. Howard, (978) 465-0492.

SUPPLEMENTARY INFORMATION: The Council proposes to take action to address the revised requirements of the Magnuson-Stevens Fishery Conservation and Management Act, as amended by the Sustainable Fisheries Act of 1996. The Council will consider comments from fishermen, interested parties, and the general public on the proposals and alternatives described in the public hearing document for the Northeast Multispecies FMP. Once it has considered public comments, the Council will approve final management measures and prepare a submission package to NMFS. There will be an additional opportunity for public comment when the proposed rule for this action is published in the Federal Register.

The primary purpose of this Amendment is to develop a program to rebuild overfished stocks. Major elements of the proposals in this public hearing document include: (1) management options to reduce fishing mortality that include reductions in the number of days-at-sea (DAS), additional gear requirements, trip/possession limits, and the use of “hard” Total Allowable Catch systems; (2) options that define and clarify the status determination criteria used to guide management actions; (3) measures designed to minimize, to the extent practicable, adverse effects of fishing on essential fish habitat; (4) measures to reduce or control excess harvesting capacity in the fishery; (5) measures to address a wide range of administrative issues, including but not limited to the development of special access programs, changes to the fishing year, and a DAS leasing proposal; (6) revisions to the northern shrimp fishery exemption area, restrictions on tuna purse seine vessel access to groundfish closed areas, and a proposal for a general category scallop exemption area in southern New England. The Council will consider all comments received on these proposals until the end of the comment period on October 15, 2003.

Public Hearings

The dates, times, locations, and telephone numbers of the hearings are as follows:

Tuesday, September 9, 2003, at 5 p.m.—Holiday Inn, 290 Highway, 37 East, Tom's River, NJ 08753; telephone: (732)244-4000;

Wednesday, September 10, 2003, at 5 p.m.—Best Western East End, 1830 Route 25, Riverhead, NY 11901; telephone: (631) 369-2200;

Thursday, September 11, 2003, at 4 p.m.—Holiday Inn South Kingston, 3009 Tower Hill Road, South Kingston, RI 02674; telephone: (401) 789-1051;

Monday, September 15, 2003, at 2 p.m. (Recreational issues to begin at 7:00 p.m.)—Ramada Inn, 1127 Route 132, Hyannis, MA; telephone: (508) 775-1153;

Monday, September 22, 2003, at 4 p.m.—Tavern on the Harbor, 30 Western Avenue, Gloucester, MA 01930; telephone (978) 283-4200;

Tuesday, September 23, 2003, at 2 p.m. (Recreational Issues to begin at 7:00 p.m.)—Yoken's Comfort Inn, 1390 Lafayette Road, Portsmouth, NH 03801; telephone: (603) 433-3338;

Wednesday, September 24, 2003, at 5 p.m.—Holiday Inn Ellsworth, 215 High Street, Ellsworth, ME 04505; telephone (207) 667-9341;

Thursday, September 25, 2003, at 4 p.m.—DoubleTree Hotel, 1230 Congress Street, Portland, ME 04102; telephone: (207) 774-5611;

Tuesday, September 30, 2003, at 4 p.m.—Holiday Inn Express, 110 Middle Street, Fairhaven, MA 02719; telephone (508) 997-1281.

Special Accommodations

These hearings are physically accessible to people with disabilities. Requests for sign language interpretation or other auxiliary aids should be directed to Paul J. Howard (see ADDRESSES) at least 5 days prior to the meeting dates.

Dated: August 13, 2003.
Bruce C. Morehead,
Acting Director, Office of Sustainable Fisheries, National Marine Fisheries Service.

[FR Doc. 03-21206 Filed 8-18-03; 8:45 am]

BILLING CODE 3510-22-S